DEPARTMENT OF HEALTH AND HUMAN SERVICES

Centers for Disease Control and Prevention

Advisory Committee on Immunization Practices (ACIP)

Correction: This notice was published in the Federal Register on January 30, 2015, Volume 80, Number 20, Page 5116-5117. Due to inclement weather in the Atlanta, Georgia area, the first day of the meeting scheduled for February 25 and 26, 2015 was not held. The second day of the meeting will take place as follows:

Times and Dates: 10:00 a.m.-2:00 p.m., February 26, 2015.

The meeting will be webcast live via the World Wide Web; for instructions and more information on ACIP please visit the ACIP Web site: http://www.cdc.gov/vaccines/acip/index.html.

Matters To Be Discussed: The shortened agenda will include discussions and votes on: Influenza LAIV use, serogroup B meningococcal (MenB) vaccines use in high risk groups, including outbreaks, and the use of 9vHPV vaccine.

Agenda items are subject to change as priorities dictate.

Contact Person for More Information: Stephanie B. Thomas, National Center for Immunization and Respiratory Diseases, CDC, 1600 Clifton Road NE., MS-A27, Atlanta, Georgia 30333, telephone: (404) 639-8836; Email ACIP@CDC.GOV.

The Director, Management Analysis and Services Office, has been delegated the authority to sign Federal Register notices pertaining to announcements of meetings and other committee management activities for both the Centers for Disease Control and Prevention and the Agency for Toxic Substances and Disease Registry.

Catherine Ramadei,
Acting Director, Management Analysis and Services Office, Centers for Disease Control and Prevention.

[FR Doc. 2015-04330 Filed 3-2-15; 8:45 am]

BILLING CODE 4163-18-P